DEPARTMENT OF COMMERCE

Office of the Secretary

[Docket Number: 030624160-3160-01]

Posting of the FY 2002 Alternative Fuel Vehicle Report on the Department of Commerce Website

AGENCY: Department of Commerce.

ACTION: Notice.

SUMMARY: This notice announces the availability of the Department of Commerce's (DoC) alternative fuel vehicle (AFV) report for FY 2002 as required by the Energy Policy Act of 1992 (EPAct).

ADDRESSES: Interested persons can obtain copies of the AFV reports from Mauryce Johnson at U.S. Department of Commerce, 1401 Constitution Avenue, NW., Washington, DC 20230 or on the internet at http://www.osec.doc.gov/oas/fleet.htm.

FOR FURTHER INFORMATION CONTACT: Mauryce Johnson, 202-482-8246.

SUPPLEMENTARY INFORMATION: The Energy Policy Act of 1992 (EPAct) requires that AFV reports for FY 1999 and beyond be made public, placing them on a publicly available Web site and publishing notice of their availability, including the Web site address, in the Federal Register. The purpose of this notice is to comply with the EPAct requirements.

Earthjustice, on behalf of the Center for Biological Diversity, the Bluewater Network, and the Sierra Club, brought suit against eighteen Federal agencies, including DoC, in the United States District Court for the Northern District of California, alleging noncompliance with EPAct's provisions regarding Federal fleets. On July 26, 2002, the court ordered that the named Federal agencies prepare and submit overdue reports to Congress outlining their AFV acquisitions for FY 1999, FY 2000, and FY 2001.

The court ordered each of the eighteen Federal agencies to post their reports on their website and individually publish the availability of their reports in the Federal Register no later than January 31, 2003. DoC complied with the court order (67 FR 77743.)

On April 24, 2003, the Center for Biological Diversity filed a motion for contempt alleging that the named agencies including DoC had not complied with all EPAct requirements. Negotiations between the plaintiffs and defendants resulted in a joint stipulation withdrawing their motion for contempt if the named Federal agencies post their AFV Compliance Reports for Fiscal Year 2002 on their respective websites and publish the availability of the report in the Federal Register no later than June 30, 2003. The AFV reports must contain a section on compliance with EPAct.

Authority: Pub. L. 102-486, Title III, Sec. 310, Oct. 24, 1992, 106 Stat. 2874.

Denise L. Wells,
Acting Director for Administrative Services.

[FR Doc. 03-16649 Filed 7-1-03; 8:45 am]

BILLING CODE 3510-03-P